DEPARTMENT OF JUSTICE

Notice of Lodging of Consent Decree Under the Comprehensive Environmental Response, Compensation and Liability Act

Under 28 CFR 50.7, notice is hereby given that on December 29, 2005, a proposed consent decree in United States v. 9.67 Acres of Land, More or Less, Located at 350 Mt Pleasant Avenue, Borough of Wallington, Bergen County, New Jersey, Civil Action No. 01-cv-3382, was lodged with the United States District Court for the District of New Jersey.

In this in rem action, the United States sought cost recovery for costs incurred in connection with the Industrial Latex Superfund Site located in the Borough of Wallington, Bergen County, New Jersey (the “Site”). Under the terms of the consent decree, the Site property will be sold and the proceeds divided among the settling parties.

The Department of Justice will receive for a period of thirty (30) days from the date of this publication comments relating to the consent decree. Comments should be addressed to the Assistant Attorney General, Environment and Natural Resources Division, P.O. Box 7611, U.S. Department of Justice, Washington, DC 20044-7611, and should refer to United States v. 9.67 Acres of Land, More or Less, Located at 350 Mt Pleasant Avenue, Borough of Wallington, Bergen County, New Jersey, Civil Action No. 01-cv-3382, D.J. Ref. 90-11-3-07502.

The consent decree may be examined at the Office of the United States Attorney, Peter Rodino Federal Building, 970 Broad Street, Suite 700, Newark, NJ 07102 and at U.S. EPA Region II, 290 Broadway, New York, NY 10007. A copy of the consent decree may also be examined on the following Department of Justice Web site, http://www.usdoj.gov/enrd/open.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree without appendices, please enclose a check in the amount of $18.25 (25 cents per page reproduction cost) payable to the U.S. Treasury.

Ronald Gluck,
Assistant Section Chief, Environmental Enforcement Section, Environment and Natural Resources Division.

[FR Doc. 06-710 Filed 1-25-06; 8:45 am]

BILLING CODE 4410-15-M